NUCLEAR REGULATORY COMMISSION

[NRC-2016-0189]

Shipping, Receiving, and Internal Transfer of Special Nuclear Material

AGENCY: Nuclear Regulatory Commission.

ACTION: Draft regulatory guide; request for comment.

SUMMARY: The U.S. Nuclear Regulatory Commission (NRC) is issuing for public comment Draft Regulatory Guide (DG) DG-5051, “Shipping, Receiving, and Internal Transfer of Special Nuclear Material.” This DG would consolidate in one document NRC guidance concerning the material control and accounting requirements pertaining to shipments, receipts, and internal transfers of special nuclear material. The DG is part of the NRC's “Regulatory Guide” series. This series was developed to describe and make available to the public information regarding methods that are acceptable to the NRC staff for implementing specific parts of the NRC's regulations, techniques that the staff uses in evaluating specific issues or postulated events, and data that the staff needs in its review of applications for permits and licenses.

DATES: Submit comments by October 21, 2016. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods:

• Federal Rulemaking Web site: Go to http://www.regulations.gov and search for Docket ID NRC-2016-0189. Address questions about NRC dockets to Carol Gallagher; telephone: 301-415-3463; email: Carol.Gallagher@nrc.gov. For technical questions, contact the individuals listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Glenn Tuttle, Office of Nuclear Material Safety and Safeguards, 301-415-7230, email: Glenn.Tuttle@nrc.gov, or Mekonen Bayssie, Office of Nuclear Regulatory Research, 301-415-1699, email: Mekonen.Bayssie@nrc.gov, U.S. Nuclear Regulatory Commission, Washington, DC 20555-0001.

SUPPLEMENTARY INFORMATION:

I. Obtaining Information and Submitting Comments

A. Obtaining Information

Please refer to Docket ID NRC-2016-0189 when contacting the NRC about the availability of information for this action. You may obtain publicly-available information related to this action by any of the following methods:

• Federal rulemaking Web site: Go to http://www.regulations.gov and search for Docket ID NRC-2016-0189.

• NRC's Agencywide Documents Access and Management System (ADAMS): You may obtain publicly-available documents online in the ADAMS Public Documents collection at http://www.nrc.gov/reading-rm/adams.html. To begin the search, select “ADAMS Public Documents” and then select “Begin Web-based ADAMS Search. ” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2016-0189 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Additional Information

The DG is entitled, “Shipping, Receiving, and Internal Transfer of Special Nuclear Material,” and would provide guidance for meeting the nuclear material control and accounting (MC&A) requirements in part 74 of title 10 of the Code of Federal Regulations (10 CFR), “Material Control and Accounting of Special Nuclear Material,” that cover these topics. The DG is electronically available in ADAMS under Accession No. ML14181B213. The DG is temporarily identified by its task number, DG-5051.

DG-5051 updates and combines in one document guidance previously provided by:

• RG 5.28, “Evaluation of Shipper-Receiver Differences in the Transfer of Special Nuclear Material,” published in June 1974 (ADAMS Accession No. ML003740063);

• RG 5.49, “Internal Transfers of Special Nuclear Material,” published in March 1975 (ADAMS Accession No. ML003739222); and

• RG 5.57, “Shipping and Receiving Control of Strategic Special Nuclear Material,” published in June 1980 (ADAMS Accession No. ML003739260).

Due to several rulemakings that occurred from 1985 to 2002, which significantly amended the MC&A requirements, the above regulatory guides became outdated as they no longer cite the correct sections of the regulations. Accordingly, RG 5.28, RG 5.49, and RG 5.57 would be withdrawn concurrent with any later issuance of DG-5051 in final form as DG-5051 would provide the correct citations to the 10 CFR part 74 regulations.

NRC guidance on the MC&A requirements pertaining to shipments, receipts, and internal transfers of special nuclear material is also provided in the following NUREGs that were issued in conjunction with the 1985-2002 MC&A rulemakings:

• NUREG-1280, “Standard Format and Content Acceptance Criteria for the Material Control and Accounting (MC&A) Reform Amendment,” applicable to facilities using formula quantities of strategic SNM (ADAMS Accession No. ML031340295).

• NUREG-1065, “Acceptable Standard Format and Content for the Fundamental Nuclear Material Control (FNMC) Plan Required for Low-Enriched Uranium Facilities,” applicable to fuel fabrication facilities using low-enriched uranium (ADAMS Accession No. ML031340288).

• NUREG/CR-5734, “Recommendations to the NRC on Acceptable Standard Format and Content for the Fundamental Nuclear Material Control (FNMC) Plan Required for Low-Enriched Uranium Enrichment Facilities,” applicable to uranium enrichment plants (ADAMS Accession No. ML15120A354).

DG-5051 incorporates guidance from these NUREGs that relates to the monitoring of shipments, receipts, and internal transfers of SNM. In addition to providing guidance on these topics, the NUREGs listed above cover other MC&A requirements as well. Accordingly, these NUREGs would not be withdrawn when DG-5051 is issued in final form.

III. Backfitting

Issuance of DG-5051 in final form would not constitute backfitting as defined in 10 CFR 70.76. As discussed in the “Implementation” section of DG-5051, the NRC has no current intention to impose this guidance on holders of part 70 licenses. Additionally, DG-5051 would incorporate relevant guidance from NUREG-1280, NUREG-1065, and NUREG/CR-5734 without making substantive changes to that guidance and update the outdated NRC guidance provided in RG 5.28, RG 5.49, and RG 5.57 by providing the correct citations to the existing 10 CFR part 74 regulations. Accordingly, the issuance of this guidance in final form would not constitute a “new” or “different” staff position within the definition of “backfitting” in 10 CFR 70.76.

Dated at Rockville, Maryland, this 15th day of September 2016.
For the Nuclear Regulatory Commission.
Thomas H. Boyce,
Chief, Regulatory Guidance and Generic Issues Branch, Division of Engineering, Office of Nuclear Regulatory Research.

[FR Doc. 2016-22634 Filed 9-20-16; 8:45 am]

BILLING CODE 7590-01-P